DEPARTMENT OF COMMERCE

National Oceanic and Atmospheric Administration

50 CFR Part 660

RIN 0648-BM29

Magnuson-Stevens Act Provisions; Fisheries Off West Coast States; Groundfish Electronic Monitoring Program; Service Provider Revisions; Correction

AGENCY: National Marine Fisheries Service (NMFS), National Oceanic and Atmospheric Administration (NOAA), Commerce.

ACTION: Final rule; correction.

SUMMARY: NMFS published a final rule on November 22, 2023, announcing changes to Federal requirements for service providers in the Pacific Coast Groundfish electronic monitoring program and other minor corrections to the groundfish regulations. This correction is necessary to modify regulatory instructions so that the implementing regulations are accurate.

DATES: Effective December 22, 2023.

ADDRESSES:

Electronic Access

This rule is accessible via the internet at the Office of the Federal Register website at https://www.federalregister.gov. Background information and documents are available at the Pacific Fishery Management Council's website at https://www.pcouncil.org/.

FOR FURTHER INFORMATION CONTACT: Melissa Hooper, (206) 526-4357, melissa.hooper@noaa.gov.

SUPPLEMENTARY INFORMATION: NMFS published a final rule on November 22, 2023, announcing changes to Federal requirements for service providers in the Pacific Coast Groundfish electronic monitoring program. This final rule also made minor administrative changes to other groundfish regulations to correct typos and update web addresses and other outdated references (88 FR 81354). This rule is effective December 22, 2023.

This action corrects the amendatory instructions to 50 CFR part 660 to correct additional typos that were left out of the original final rule; specifically changing the word “coop” to “co-op” when referring to harvest cooperatives. This correction is necessary to modify the incorrect regulatory instruction so that the implementing regulations are accurate.

Correction

PART 660 [Corrected]

Effective December 22, 2023, in FR. Doc. 2023-25703 at 88 FR 81354 in the issue of November 22, 2023, on page 81358, in the first column, in amendatory instruction 2, the following correction is made:

2. Amend part 660 by:

a. Removing the word “coop” and adding in its place the word “co-op” wherever it appears;

b. Removing the word “Coop” and adding in its place the word “Co-op” wherever it appears;

c. Removing the word “coops” and adding in its place the word “co-ops” wherever it appears;

d. Removing the word “inter-coop” and adding in its place the word “inter-co-op” wherever it appears; and

e. Removing the word “Inter-coop” and adding in its place the word “Inter-co-op.”

Dated: December 12, 2023.
Samuel D. Rauch, III,
Deputy Assistant Administrator for Regulatory Programs, National Marine Fisheries Service.

[FR Doc. 2023-27715 Filed 12-15-23; 8:45 am]

BILLING CODE 3510-22-P